ENVIRONMENTAL PROTECTION AGENCY

[FRL-9646-3]

Notification of a Public Meeting and Two Public Teleconferences for the Clean Air Scientific Advisory Committee's Review of EPA's Integrated Science Assessment for Lead

AGENCY: Environmental Protection Agency (EPA).

ACTION: Notice.

SUMMARY: The EPA Science Advisory Board (SAB) Staff Office announces a public meeting and a public teleconference of the Clean Air Scientific Advisory Committee (CASAC) Lead Review Panel to conduct a peer review of EPA's Integrated Science Assessment for Lead (Second External Review Draft—February 2012), and a public teleconference of the Chartered CASAC to conduct a quality review of the Panel's draft report.

DATES: The CASAC Lead Review Panel face-to-face public meeting will be held on Tuesday, April 10, 2012, from 8:30 a.m. to 5:30 p.m. (Eastern Time) and on Wednesday, April 11, 2012, from 8:30 a.m. to 12:30 p.m. (Eastern Time). The follow-up public teleconference of the CASAC Lead Review Panel will be held on Wednesday, May 30, 2012, from 12 p.m. to 3 p.m. (Eastern Time). The quality review public teleconference of the Chartered CASAC will be held on Monday, July 16, 2012, from 10 a.m. to 12 p.m. (Eastern Time).

ADDRESSES: The CASAC Lead Review Panel face-to-face public meeting will be held at the Marriott at Research Triangle Park hotel, 4700 Guardian Drive, Durham, North Carolina 27703 (919-941-6200). The CASAC Lead Review Panel's follow-up public teleconference and the Chartered CASAC's quality review public teleconference will take place via telephone only.

FOR FURTHER INFORMATION CONTACT: Any member of the public who wants further information concerning the CASAC Lead Review Panel's face-to-face public meeting and follow-up public teleconference may contact Mr. Aaron Yeow, Designated Federal Officer (DFO), via telephone at: (202) 564-2050 or email at yeow.aaron@epa.gov. Any member of the public who wants further information concerning the Chartered CASAC's quality review public teleconference may contact Dr. Holly Stallworth, Designated Federal Officer (DFO), via telephone at (202) 564-2073 or email at stallworth.holly@epa.gov. General information concerning the CASAC can be found on the EPA Web site at http://www.epa.gov/casac.

SUPPLEMENTARY INFORMATION: The CASAC was established pursuant to the Clean Air Act (CAA) Amendments of 1977, codified at 42 U.S.C. 7409D(d)(2) to provide advice, information, and recommendations to the Administrator on the scientific and technical aspects of issues related to the criteria for air quality standards, research related to air quality, sources of air pollution, and the strategies to attain and maintain air quality standards and to prevent significant deterioration of air quality. The CASAC is a Federal Advisory Committee chartered under the Federal Advisory Committee Act (FACA), 5 U.S.C., App. 2. Pursuant to FACA and EPA policy, notice is hereby given that the CASAC Lead Review Panel will hold a face-to-face public meeting to peer review EPA's second external review draft of the Integrated Science Assessment for Lead (February 2012). The CASAC Lead Review Panel will hold a follow-up public teleconference to discuss its draft review and the Chartered CASAC will hold a public teleconference to discuss the Panel's draft review. This is being prepared as part of the review of the National Ambient Air Quality Standards (NAAQS) for lead. The CASAC Lead Review Panel and the CASAC will comply with the provisions of FACA and all appropriate SAB Staff Office procedural policies.

Section 109(d)(1) of the CAA requires that the Agency periodically review and revise, as appropriate, the air quality criteria and the NAAQS for the six “criteria” air pollutants, including lead. EPA is currently reviewing the primary (health-based) and secondary (welfare-based) NAAQS for lead. The CASAC Lead Review Panel previously reviewed EPA's first external review draft of the Integrated Science Assessment for Lead (May 2011) as reported in a CASAC letter to the EPA Administrator, dated December 9, 2011 (EPA-CASAC-12-002).

Technical Contacts: Any technical questions concerning the Integrated Science Assessment for Lead (Second External Review Draft—February 2012) should be directed to Dr. Ellen Kirrane (kirrane.ellen@epa.gov).

Availability of Meeting Materials: Prior to the meeting, the review documents, agenda and other materials will be accessible through the calendar link on the blue navigation bar at http://www.epa.gov/casac/.

Procedures for Providing Public Input: Public comment for consideration by EPA's federal advisory committees and panels has a different purpose from public comment provided to EPA program offices. Therefore, the process for submitting comments to a federal advisory committee is different from the process used to submit comments to an EPA program office.

Federal advisory committees and panels, including scientific advisory committees, provide independent advice to EPA. Members of the public can submit relevant comments for a federal advisory committee to consider pertaining to EPA's charge to the panel or meeting materials. Input from the public to the CASAC will have the most impact if it provides specific scientific or technical information or analysis for CASAC panels to consider or if it relates to the clarity or accuracy of the technical information. Members of the public wishing to provide comment should contact the DFO directly.

Oral Statements: In general, individuals or groups requesting an oral presentation will be limited to five minutes for the public face-to-face meeting and will be limited to three minutes for the public teleconferences. Interested parties should contact Mr. Aaron Yeow, DFO, in writing (preferably via email) at the contact information noted above by April 3, 2012, to be placed on the list of public speakers for the CASAC Lead Review Panel's face-to-face public meeting and by May 23, 2012, for the CASAC Lead Review Panel's follow-up public teleconference. Interested parties should contact Dr. Holly Stallworth, DFO, in writing (preferably via email) at the contact information noted above by July 9, 2012, to be placed on the list of public speakers for the Chartered CASAC quality review public teleconference. Written Statements: Written statements should be supplied to the Mr. Yeow, DFO, via email at the contact information noted above by April 3, 2012, for the CASAC Lead Review Panel's face-to-face public meeting, and by May 23, 2012, for the CASAC Lead Review Panel's follow-up public teleconference so that the information may be made available to the Panel members for their consideration. Written statements should be supplied to Dr. Stallworth, DFO, via email at the contact information noted above by July 9, 2012, for the Chartered CASAC's quality review public teleconference. Written statements should be supplied in one of the following electronic formats: Adobe Acrobat PDF, MS Word, MS PowerPoint, or Rich Text files in IBM-PC/Windows 98/2000/XP format. It is the SAB Staff Office general policy to post written comments on the Web page for the advisory meeting or teleconference. Submitters are requested to provide an unsigned version of each document because the SAB Staff Office does not publish documents with signatures on its Web sites. Members of the public should be aware that their personal contact information, if included in any written comments, may be posted to the CASAC Web site. Copyrighted material will not be posted without explicit permission of the copyright holder.

Accessibility: For information on access or services for individuals with disabilities, please contact Mr. Aaron Yeow at (202) 564-2050 or yeow.aaron@epa.gov. To request accommodation of a disability, please contact Mr. Yeow preferably at least ten days prior to the public meeting and/or teleconference to give EPA as much time as possible to process your request.

Dated: March 6, 2012.
Vanessa T. Vu,
Director, EPA Science Advisory Board Staff Office.

[FR Doc. 2012-6029 Filed 3-12-12; 8:45 am]

BILLING CODE 6560-50-P